DEPARTMENT OF HEALTH AND HUMAN SERVICES

National Institutes of Health

Submission for OMB Review; 30-Day Comment Request; Regular Clearance for Autism Spectrum Disorder (ASD) Research Portfolio Analysis (National Institute of Mental Health)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Andrew Hooper, National Institute of Mental Health (NIMH) Project Clearance Liaison, Science Policy and Evaluation Branch, Office of Science Policy, Planning and Communications, NIMH, Neuroscience Center, 6001 Executive Boulevard, MSC 9667, Bethesda, Maryland 20892, call (301) 480-8433 or Email your request, including your address to nimhprapubliccomments@mail.nih.gov.

SUPPLEMENTARY INFORMATION: This proposed information collection was previously published in the Federal Register on November 21st, 2025, pages 52685-52686 (Vol. 90, No. 223) and allowed 60 days for public comment. No public comments were received. The purpose of this notice is to allow an additional 30 days for public comment.

The National Institute of Mental Health (NIMH), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: NIMH Office of National Autism Coordination (ONAC) Portfolio Analysis, NIMH, 0925-0682, expiration date 2/28/2026, REVISION, National Institute of Mental Health (NIMH), National Institutes of Health (NIH).

Need and Use of Information Collection: This is a requested revision of a currently approved request (NIMH Office of Autism Research Coordination (OARC) Portfolio Analysis, 0925-0682, expiration date 2/28/2026), where the National Institute of Mental Health (NIMH) Office of National Autism Coordination (ONAC), on behalf of the Interagency Autism Coordinating Committee (IACC), plans to continue conducting comprehensive portfolio analyses of major autism spectrum disorder (ASD) research funders. The purpose of the ASD research portfolio analysis is to collect research funding data from U.S. and international ASD research funders, to assist the Interagency Autism Coordinating Committee (IACC) in fulfilling the requirements of the Autism Collaboration, Accountability, Research, Education, and Support (CARES) Act of 2024, and to inform the committee and interested stakeholders of the funding landscape and current directions for ASD research. Specifically, these analyses will continue to examine the extent to which current funding and research topics align with the IACC Strategic Plan for Autism Research, Services, and Policy. The findings will help guide future funding priorities by outlining current gaps and opportunities in ASD research as well as serving to highlight annual research activities and progress.

This revision request includes the following actions: updating all previous references to the “Office of Autism Research Coordination (OARC)” to instead refer to the “Office of National Autism Coordination (ONAC)”; updating all previous references to the “Autism CARES Act of 2019” to instead refer to the “Autism CARES Act of 2024”, which was signed into law in December 2024 and reauthorizes the IACC through September 2029; updating all previous references to IACC Strategic Plan “Objectives” to instead refer to “Recommendations” after the publication of the 2021-2023 IACC Strategic Plan; updating descriptions of how results of the portfolio analyses will be presented and made publicly available upon request; updating the total burden hours due to an increase in the number of U.S. respondents and an increase in the number of projects reported by these respondents; updating the annualized total cost to the federal government due to inflation and staffing changes; and, updating information collection materials and background documents to reflect the funders to be included in future autism research portfolio analyses and to allow for project funding data for two years to be provided in one spreadsheet.

OMB approval is requested for 3 years. There are no costs to respondents other than their time. The total estimated annualized burden hours are 474.

Estimated Annualized Burden Hours
Type of respondents | Number of respondents | Number of projects per respondent | Average time per response (in hours) | Total burden hours
U.S. Federal | 40 | 24 | 15/60 | 240
U.S. Private | 18 | 47 | 15/60 | 212
International Government | 1 | 61 | 15/60 | 15
International Private | 2 | 13 | 15/60 | 7
Total | 61 | 1,893 |  | 474

Dated: February 4, 2026.
Andrew A. Hooper,
Project Clearance Liaison, National Institute of Mental Health, National Institutes of Health.

[FR Doc. 2026-02440 Filed 2-5-26; 8:45 am]

BILLING CODE 4140-01-P